DEPARTMENT OF EDUCATION

Applications for New Awards; Independent Living Services for Older Individuals Who Are Blind—Independent Living Services for Older Individuals Who Are Blind Training and Technical Assistance Program

AGENCY: Office of Special Education and Rehabilitative Services, Department of Education.

ACTION: Notice.

Overview Information: Independent Living Services for Older Individuals Who Are Blind—Independent Living Services for Older Individuals Who Are Blind Training and Technical Assistance Program Notice inviting applications for new awards for fiscal year (FY) 2015.

Catalog of Federal Domestic Assistance (CFDA) Number: 84.177Z.

DATES:

Applications Available: July 22, 2015.

Deadline for Transmittal of Applications: August 21, 2015.

Full Text of Announcement

I. Funding Opportunity Description

Purpose of Program: The purpose of this program is to provide training and technical assistance (TA) to designated State agencies (DSAs) (the State agencies that provide vocational rehabilitation services to individuals who are blind) that receive grant funding under the Independent Living Services for Older Individuals who are Blind (OIB) program and to other service providers that receive OIB program funding from DSAs to provide services to consumers. Such training and TA is designed to improve the administration, operation, and performance of the OIB program.

Priority: We are establishing this priority for the FY 2015 grant competition only, in accordance with section 437(d)(1) of the General Education Provisions Act (GEPA), 20 U.S.C. 1232(d)(1).

Absolute Priority: This priority is an absolute priority. Under 34 CFR 75.105(c)(3), we consider only applications that meet this priority.

This priority is:

Independent Living Services for Older Individuals Who Are Blind (OIB) Training and Technical Assistance.

Background:

The Workforce Innovation and Opportunity Act (WIOA), enacted in July of 2014, made significant changes to the Rehabilitation Act of 1973 (the Act), including adding provisions to the OIB program that require the reservation of funds to support training and technical assistance. In particular, section 751A of the Act requires the Commissioner of the Rehabilitation Services Administration (RSA) to reserve not less than 1.8 percent and not more than 2 percent of the funds appropriated to the OIB program to provide training and technical assistance to DSAs or other providers of OIB services that receive OIB program funds.

The purpose of the OIB program is to: (1) Provide independent living (IL) services to older individuals who are blind; (2) conduct activities that will improve or expand services for these individuals; and (3) conduct activities to help improve public understanding of these individuals' challenges. An “older individual who is blind” is an individual age 55 or older whose significant visual impairment makes competitive employment extremely difficult to attain but for whom independent living goals are feasible. Through these services and activities, the program seeks to improve independent living options for older individuals who are blind and increase their independence and self-sufficiency.

To help determine funding priorities, section 751A of the Act requires RSA to conduct a survey of DSAs that receive OIB program grants to determine their training and TA needs. In response to this requirement, RSA added a new section to the annual report submitted by DSAs (Section VII Training and Technical Assistance) to obtain this information.

Survey results from the most recent annual report submitted by each of the OIB program grantees identified the need for training and TA in the following areas: Fiscal and management practices, annual report (Form RSA 7-OB) reporting requirements, data analysis and program performance, service provision and service delivery, promising practices, resources and information, and outreach.

Priority:

This priority supports a cooperative agreement to establish an OIB Training and Technical Assistance Center (Center) to provide sustained training and TA—generalized, targeted, and intensive—to DSAs funded under the OIB program and to any service providers the DSAs fund to provide services directly to consumers. The Center will develop and provide training and TA to DSAs and other service providers funded under the OIB program in the following general topic areas:

(a) Community outreach;

(b) Best practices in the provision and delivery of services;

(c) Program performance, including data reporting and analysis; and

(d) Financial and management practices, including practices to ensure compliance with grant administration requirements.

Project Activities

To meet the requirements of this priority, the Center must, at a minimum, conduct the following activities:

(a) Annually provide intensive training and TA to a minimum of three DSAs and other service providers on the topic areas in this priority. The TA must be:

(1) Consistent with the project activities and tailored to the specific needs and challenges of the DSA or other service provider receiving the intensive training and TA;

(2) Provided under an agreement with each DSA or other service provider that, at a minimum, details the purpose, intended outcomes, and requirements for subsequent evaluation of the training and TA; and

(3) Assessed 90 days after completion to ensure that DSAs and other service providers receiving intensive training and TA are applying it effectively and to address any issues or challenges in its implementation.

(b) Provide a range of targeted and general training and TA products and services on the general topic areas in this priority. The training and TA should include, at a minimum, the following activities:

(1) Provide a minimum of two Webinars or video conferences on each of the topic areas in this priority to describe and disseminate information about emerging and best practices in each area.

(2) Develop new information technology (IT) platforms or systems, or modify existing platforms and systems, as follows:

(i) Develop and maintain a state-of-the-art IT platform sufficient to support Webinars, teleconferences, video conferences, and other virtual methods of dissemination of information and training and TA;

(ii) Develop and maintain a state-of-the-art archiving and dissemination system that is open and available to the public and that provides a central location for later use of training and TA products, including course curricula, audiovisual materials, Webinars, examples of emerging and best practices related to the topic areas in this priority, and any other training and TA products.

Note: All products produced by the Center must meet government and industry-recognized standards for accessibility.

(c) Conduct outreach to DSAs so that they are aware of and can participate in training and TA activities.

(d) Establish a community of practice ¹ that will act as a vehicle for communication, an exchange of information among DSAs and other service providers, and a forum for sharing the results of training and TA projects that are in progress or have been completed.

¹ For more information on communities of practice, see www.tadnet.org/pages/510.

(e) Communicate and coordinate, on an ongoing basis, with other federally funded training and TA projects, particularly Department-funded projects and the Training and Technical Assistance grant for Centers for Independent Living supported by the Department of Health and Human Services, to ensure that training and TA activities are complementary and non-duplicative;

(f) Conduct an evaluation to determine the impact of the Center's training and TA on the DSAs and other service providers that received the Center's services.

Application Requirements

To be funded under this priority, applicants must meet the application and administrative requirements in this priority. RSA encourages innovative approaches to meet these requirements, which are:

(a) Demonstrate, in the narrative section of the application under “Significance of the Project,” how the proposed project will—

(1) Address DSAs' capacity to implement effectively an OIB program. To meet this requirement, the applicant must:

(i) Demonstrate knowledge of emerging and best practices in the topic areas in this priority;

(ii) Demonstrate knowledge of current RSA guidance and State and Federal initiatives designed to improve the functioning of grant programs in general, the OIB program in particular, and independent living outcomes for older individuals who are blind; and

(iii) Present information about the difficulties that DSAs and service providers have encountered in implementing effective OIB programs.

(2) Increase both the efficiency and effectiveness of the OIB program.

(b) Demonstrate, in the narrative section of the application under “Quality of Project Services,” how the proposed project will—

(1) Achieve its goals, objectives, and intended outcomes. To meet this requirement, the applicant must provide—

(i) Measurable intended project outcomes;

(ii) A plan for how the proposed project will achieve its intended outcomes;

(iii) A plan for communicating and coordinating with key staff in DSAs and other service providers; and

(iv) A draft training module for one of the topic areas in this priority to serve as an example of how participants would be trained in that area. The module is a required attachment in the application and must include, at a minimum, the following:

(A) The goals and objectives of this training module;

(B) A specific list of what participants should know and be able to do as a result of successfully completing the module;

(C) Up-to-date resources, publications, applicable laws and regulations, and other materials that may be used to supplement the module;

(D) Exercises that will provide an opportunity for application of the module's subject matter; and

(E) A description of how participant knowledge, skills, and abilities will be measured.

(2) Use a logic model to develop project plans and activities that includes, at a minimum, the goals, activities, outputs, and outcomes of the proposed project.

Note: For purposes of this priority, a “logic model” is defined in 34 CFR 77.1(c). The following Web sites provide more information on logic models: www.researchutilization.org/matrix/logicmodel_resource3c.html and www.tadnet.org/pages/589.

(3) Be based on current research and make use of emerging and promising practices, and evidence-based practices, where available. To meet this requirement, the applicant must describe—

(i) The current research on the emerging and promising practices in the topic areas in this priority; and

(ii) How the Center will incorporate current research and promising and evidence-based practices, including research about adult learning principles and implementation science, in the development and delivery of its products and services.

(4) Develop products and provide services that are of high quality and sufficient intensity and duration to achieve the intended outcomes of the proposed project. To address this requirement, the applicant must describe—

(i) Its proposed approach to universal, general training and TA; ²

² For the purposes of this priority, “universal, general training and technical assistance” means technical assistance and information provided to independent users through their own initiative, resulting in minimal interaction with technical assistance center staff and including one-time, invited or offered conference presentations by technical assistance center staff. This category of technical assistance also includes information or products, such as newsletters, guidebooks, or research syntheses, downloaded from the technical assistance center's Web site by independent users. Brief communications by technical assistance center staff with recipients, either by telephone or email, are also considered universal, general technical assistance.

(ii) Its proposed approach to targeted, specialized training and TA,³ which must identify—

³ For the purposes of this priority, “targeted, specialized training and technical assistance” means technical assistance based on needs common to multiple recipients and not extensively individualized. A relationship is established between the technical assistance recipient and one or more technical assistance center staff. This category of technical assistance includes one-time, labor-intensive events, such as facilitating strategic planning or hosting regional or national conferences. It can also include episodic, less labor-intensive events that extend over a period of time, such as facilitating a series of conference calls on single or multiple topics that are designed around the needs of the recipients. Facilitating communities of practice can also be considered targeted, specialized technical assistance.

(A) The intended recipients of the products and services under this approach, including the categories of personnel that would be receiving the training and TA;

(B) Its proposed medium for providing targeted, specialized training and TA; and

(C) Its proposed methodology for determining topics for the targeted, specialized training and TA.

(iii) Its proposed approach to intensive, sustained training and TA,⁴ which must identify—

⁴ For the purposes of this priority, “intensive, sustained training and TA” means training and TA services often provided on-site and requiring a stable, ongoing relationship between the TA center staff and the TA recipient. “TA services” are defined as negotiated series of activities designed to reach a valued outcome. This category of TA should result in changes to policy, program, practice, or operations that support increased recipient capacity or improved outcomes at one or more systems levels.

(A) Its proposed approach to identifying recipients for intensive, sustained training and TA products and services;

(B) Its proposed approach to assessing the training and TA needs of recipients, including their ability to respond effectively to the training and TA; and

(C) Its proposed methodology for providing intensive, sustained training and TA.

(5) Develop products and implement services to maximize the project's efficiency. To address this requirement, the applicant must describe—

(i) How the proposed project will use technology to achieve the intended project outcomes; and

(ii) With whom the proposed project will collaborate and the intended outcomes of this collaboration.

(c) Demonstrate, in the narrative section of the application under “Quality of Evaluation Plan,” how the proposed project will—

(1) Measure and track the effectiveness of the training and TA provided. To meet this requirement, the applicant must describe its proposed approach to—

(i) Collecting data on the effectiveness of each training and TA activity from DSAs and other service providers, or other sources, as appropriate; and

(ii) Analyzing the collection of data to determine the effectiveness of each training and TA activity using any proposed standards or targets for determining effectiveness.

(2) Collect and analyze data on specific and measurable goals, objectives, and progress on intended outcomes of the project to measure and track the effectiveness of the training and TA provided. To address this requirement, the applicant must describe—

(i) Its proposed evaluation methodologies, including instruments, data collection methods, and analyses;

(ii) Its proposed standards or targets for determining effectiveness;

(iii) How it will use the evaluation results to examine the effectiveness of its implementation and its progress toward achieving the intended outcomes; and

(iv) How the methods of evaluation will produce quantitative and qualitative data that demonstrate whether the project and individual training and TA activities achieved their intended outcomes.

(d) Demonstrate, in the narrative section of the application under “Quality of Project Personnel,” how—

(1) The proposed project will encourage applications for employment from persons who are members of groups that have traditionally been underrepresented based on race, color, national origin, gender, age, or disability, as appropriate; and

(2) The proposed key project personnel, consultants, and subcontractors have the qualifications and experience to provide training and TA to DSAs and other service providers in each of the topic areas in this priority and to achieve the project's intended outcomes.

(e) Demonstrate, in the narrative section of the application under “Adequacy of Project Resources,” how—

(1) The applicant and any key partners have adequate resources to carry out the proposed activities; and

(2) The proposed costs are reasonable in relation to the anticipated results and benefits.

(f) Demonstrate, in the narrative section of the application under “Quality of the Management Plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks.

(2) Key project personnel and any consultants and subcontractors will be allocated to the project and how these allocations are appropriate and adequate to achieve the project's intended outcomes, including an assurance that such personnel will have adequate availability to ensure timely communications with stakeholders and RSA;

(3) The proposed management plan will ensure that the products and services provided are of high quality; and

(4) The proposed project will benefit from a diversity of perspectives, including those of State and local personnel, training and TA providers, policy makers, OIB program consumers, and intended beneficiaries of the training, among others, in its development and operation.

Waiver of Proposed Rulemaking: Under the Administrative Procedure Act (5 U.S.C. 553) the Department generally offers interested parties the opportunity to comment on proposed priorities. Section 437(d)(1) of GEPA, however, allows the Secretary to exempt from rulemaking requirements, regulations governing the first grant competition under a new or substantially revised program authority. This is the first grant competition for this program under section 751A of the Act, as amended by WIOA (29 U.S.C. 796j-1), and therefore qualifies for this exemption. In order to ensure timely grant awards, the Secretary has decided to forego public comment on the priority under section 437(d)(1) of GEPA. This priority will apply to the FY 2015 grant competition only.

Program Authority: 29 U.S.C. 796j-1.

Applicable Regulations: (a) The Education Department General Administrative Regulations (EDGAR) in 34 CFR parts 75, 77, 79, 81, 82, 84, and 86. (b) The Office of Management and Budget (OMB) Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended in 2 CFR part 3474.

Note: The regulations in 34 CFR part 86 apply to institutions of higher education only.

II. Award Information

Type of Award: Cooperative agreement.

Estimated Available Funds: $596,373.

Estimated Number of Awards: 1.

Note: The Department is not bound by any estimates in this notice.

Project Period: Up to 60 months.

III. Eligibility Information

1. Eligible Applicants: State and public or non-profit agencies and organizations and institutions of higher education that have the capacity to provide training and TA in the provision of IL services for older individuals who are blind and have demonstrated through their application a capacity to provide the level of training and TA as indicated in the priority section of this notice.

2. Cost Sharing or Matching: This program does not require cost sharing or matching.

IV. Application and Submission Information

1. Address to Request Application Package: You can obtain an application package via the Internet or from the Education Publications Center (ED Pubs). To obtain a copy via the Internet, use the following address: www.ed.gov/fund/grant/apply/grantapps/index.html.

To obtain a copy from ED Pubs, write, fax, or call the following: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application from ED Pubs, be sure to identify this program as follows: CFDA number 84.177Z.

Individuals with disabilities can obtain a copy of the application package in an accessible format (e.g., braille, large print, audiotape, or compact disc) by contacting the person or team listed under Accessible Format in section VIII of this notice.

2. a. Content and Form of Application Submission:

Requirements concerning the content of an application, together with the forms you must submit, are in the application package for this program.

b. Submission of Proprietary Information:

Given the types of projects that may be proposed in applications for the Independent Living Services for Older Individuals Who Are Blind Training and Technical Assistance program, an application may include business information that the applicant considers proprietary. The Department's regulations define “business information” in 34 CFR 5.11.

Because the funded applicant's abstract will be made available to the public, you may wish to request confidentiality of business information.

Consistent with Executive Order 12600, please designate in your application any information that you feel is exempt from disclosure under Exemption 4 of the Freedom of Information Act. In the appropriate Appendix section of your application, under “Other Attachments Form,” please list the page number or numbers on which we can find this information. For additional information please see 34 CFR 5.11(c).

3. Submission Dates and Times:

Applications Available: July 22, 2015.

Deadline for Transmittal of Applications: August 21, 2015.

Applications for grants under this program must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

4. Intergovernmental Review: This competition is subject to Executive Order 12372 and the regulations in 34 CFR part 79. However, under 34 CFR 79.8(a), we waive intergovernmental review in order to make an award by the end of FY 2015.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one to two business days.

If you are a corporate entity, agency, institution, or organization, you can obtain a TIN from the Internal Revenue Service. If you are an individual, you can obtain a TIN from the Internal Revenue Service or the Social Security Administration. If you need a new TIN, please allow 2-5 weeks for your TIN to become active.

The SAM registration process can take approximately seven business days, but may take upwards of several weeks, depending on the completeness and accuracy of the data entered into the SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov and before you can submit an application through Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: http://www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements:

Applications for grants under this program must be submitted electronically unless you qualify for an exception to this requirement in accordance with the instructions in this section.

a. Electronic Submission of Applications.

Applications for grants under the Independent Living Services for Older Individuals Who Are Blind Training and Technical Assistance program, CFDA number 84.177Z, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Independent Living Services for Older Individuals Who Are Blind Training and Technical Assistance program at www.Grants.gov. You must search for the downloadable application package for this program by the CFDA number. Do not include the CFDA number's alpha suffix in your search (e.g., search for 84.177, not 84.177Z).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this program to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material. Additional, detailed information on how to attach files is in the application instructions.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Mary Williams, U.S. Department of Education, 400 Maryland Avenue SW., Room 5144, PCP, Washington, DC 20202-2800. FAX: (202) 245-7593

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.177Z), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.177Z), 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the program under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from the selection criteria found in EDGAR at 34 CFR 75.210 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Special Conditions: Under 2 CFR 3474.10, the Secretary may impose special conditions and, in appropriate circumstances, high-risk conditions on a grant if the applicant or grantee is not financially stable; has a history of unsatisfactory performance; has a financial or other management system that does not meet the standards in 2 CFR 200, subpart D; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this program, you must ensure that you have in place the necessary processes and systems to comply with the reporting requirements in 2 CFR part 170 should you receive funding under the program. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www2.ed.gov/print/fund/grant/apply/appforms/appforms.html.

4. Performance Measures: The Government Performance and Results Act of 1993 directs Federal departments and agencies to improve the effectiveness of their programs by engaging in strategic planning, setting outcome-related goals for programs, and measuring program results against those goals.

The goal of this grant is to provide training and TA designed to improve the operation and performance of OIB programs to eligible DSAs and other service providers that receive funding under chapter 2 of title VII of the Act, as amended by WIOA.

To assess the success of the grantee in meeting the training and TA goals of this program, the Department is in the process of developing performance measures. In general, these measures will assess the quality, relevance, and usefulness of the training and TA provided by the Center, as well as the performance of the Center in achieving the project's intended outcomes in the specific topics in each priority area established annually by RSA in the cooperative agreement.

The grantee will be required to collect and annually report data showing its performance on these measures in the Center's annual and final performance reports to the Department.

The annual performance report must include both quantitative and qualitative information sufficient to assess the quality, relevance, and usefulness of the training and TA provided by the Center and the progress toward training and TA objectives for that year. The data used must be valid and verifiable.

The annual performance reports must provide, at a minimum, specific information on the number of training and TA activities conducted by the Center, the topics of these activities, the type of training and TA provided (i.e., intensive, targeted, general), the number and types of participants served (i.e., DSAs or other providers of services under the OIB program), and summary data from participant evaluations.

5. Continuation Awards: In making a continuation award under 34 CFR 75.253, the Secretary considers, among other things: whether a grantee has made substantial progress in achieving the goals and objectives of the project; whether the grantee has expended funds in a manner that is consistent with its approved application and budget; and, if the Secretary has established performance measurement requirements, the performance targets in the grantee's approved application. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Mary Williams, U.S. Department of Education, 400 Maryland Avenue SW., Room 5144, PCP, Washington, DC 20202-2800. Telephone: (202) 245-7586 or by email: mary.williams@ed.gov.

If you use a TDD or a TTY, call the Federal Relay Service (FRS), toll free, at 1-800-877-8339.

VIII. Other Information

Accessible Format: Individuals with disabilities can obtain this document and a copy of the application package in an accessible format (e.g., braille, large print, audiotape, or compact disc) by contacting Wendell Bell, U.S. Department of Education, 400 Maryland Avenue SW., Room 5075, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: July 17, 2015.
Michael K. Yudin,
Assistant Secretary for Special Education and Rehabilitative Services.

[FR Doc. 2015-17996 Filed 7-21-15; 8:45 am]

BILLING CODE 4000-01-P